ENVIRONMENTAL PROTECTION AGENCY

[EPA-HQ-OAR-2010-0690; FRL-9978-69-OEI]

Agency Information Collection Activities; Submission to OMB for Review and Approval; Comment Request; EPA's Light-Duty In-Use Vehicle and Engine Testing Program (Renewal)

AGENCY: Environmental Protection Agency.

ACTION: Notice.

SUMMARY: The Environmental Protection Agency (EPA) has submitted an information collection request (ICR)—EPA's Light-Duty In-Use Vehicle and Engine Testing Program (Renewal), EPA ICR number 0222.11, OMB Control Number 2060-0086—to the Office of Management and Budget (OMB) for review and approval in accordance with the Paperwork Reduction Act. This is a proposed extension of the ICR, which is currently approved through May 31, 2018. Public comments were previously requested via the Federal Register on December 8, 2017 during a 60-day comment period. This notice allows for an additional 30 days for public comments. A fuller description of the ICR is given below, including its estimated burden and cost to the public. An agency may not conduct or sponsor and a person is not required to respond to a collection of information unless it displays a currently valid OMB control number.

DATES: Comments must be submitted on or before June 28, 2018.

ADDRESSES: Submit your comments, referencing Docket ID No. EPA-HQ-OAR-2010-0690, to (1) EPA online using www.regulations.gov (our preferred method) or by mail to: EPA Docket Center, Environmental Protection Agency, Mailcode 2822T, 1200 Pennsylvania Ave. NW, Washington, DC 20460, and (2) OMB by mail to: Office of Information and Regulatory Affairs, Office of Management and Budget (OMB), Attention: Desk Officer for EPA, 725 17th Street NW, Washington, DC 20503.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number: 734-214-4869; email address: sohacki.lynn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Air Act directs EPA to ensure that motor vehicles comply with emissions requirements throughout their useful lives. EPA's “in-use” program evaluates the emissions performance of light-duty motor vehicles (i.e., passenger cars and light trucks) after they have been introduced into commerce. This program operates in conjunction with other motor vehicle emissions testing programs conducted by the Agency and the light-duty motor vehicle manufacturers. These other test programs include confirmatory certification testing of prototype vehicles by manufacturers and EPA and the mandatory manufacturer in-use verification program (IUVP). The primary purpose of EPA's in-use program is information gathering. Nevertheless, EPA can require a recall if it receives information, from whatever source, including in-use testing, that a “substantial number” of any class or category of vehicles or engines, although properly maintained and used, do not conform to the emission standards, when in actual use throughout their useful life.

The EPA in-use program can be broken down into three closely-related components. The first component involves the selection of approximately 40 classes of passenger cars and light trucks, totaling approximately 125 vehicles, for surveillance testing at EPA's National Vehicle and Fuel Emissions Laboratory (NVFEL). In some cases, surveillance testing may be followed by confirmatory testing to develop additional information related to test failures observed in a class during surveillance testing. Confirmatory testing involves the selection of approximately one or two classes of 10 passenger cars and light trucks, averaging approximately 14 vehicles, for further testing, at EPA's NVFE. While the emissions tests that are conducted are the same for surveillance and confirmatory testing, confirmatory testing differs from surveillance testing in that the vehicles must meet stricter maintenance and use criteria. The second program component involves the testing of a subset of vehicles from the surveillance recruitment for operation of on-board diagnostics (OBD) systems. EPA does not currently recruit vehicles for OBD testing but includes the testing in this ICR in the event that OBD testing is resumed. The third component involves the special investigation of vehicles to address specific issues. This information request does not ask for approval of the information burden corresponding to such vehicles because the vehicles for this program have not been procured from the public recently and, therefore, there is no information collection burden associated with this testing.

Form numbers: 5900-304, 5900-305, 5900-306, 5900-307, 5900-308, 5900-309.

Frequency of response: On Occasion.

Respondents/affected entities: Vehicle Owners identified from state vehicle registration records that are willing to participate in the program.

Respondent's obligation to respond: Voluntary.

Estimated number of respondents: 140.

Total estimated burden: 302 hours (per year). Burden is defined at 5 CFR 1320.03(b).

Total estimated cost: $7,206 (per year). This includes an estimated burden cost of $7,206 and an estimated cost of $0 for capital investment or maintenance and operational costs.

Changes in estimates: There is a decrease of 2,291 responses and 204 hours in the total estimated respondent burden compared with that identified in the ICR currently approved by OMB. This change is due to a decrease in the number of responses returned to EPA by potential participants.

Courtney Kerwin,
Director, Regulatory Support Division.

[FR Doc. 2018-11448 Filed 5-25-18; 8:45 am]

BILLING CODE 6560-50-P